NUCLEAR REGULATORY COMMISSION

Florida Power Corporation; Notice of Consideration of Issuance of Amendment to Facility Operating License, Proposed No Significant Hazards Consideration Determination, and Opportunity for a Hearing; Correction

AGENCY: Nuclear Regulatory Commission.

ACTION: Notice of Issuance; Correction.

SUMMARY: This document corrects a notice published in the Federal Register on March 13, 2007 (72 FR 11381), which informs the public that the NRC is considering issuance of an amendment to Renewed Facility Operating License No. DPR-72. This action is necessary to correct the name of the licensee.

FOR FURTHER INFORMATION CONTACT: Beverly A. Clayton, Office of Nuclear Reactor Regulation, Nuclear Regulatory Commission, Washington, DC 20555-0001, telephone: 301-415-3475, e-mail: bac2@nrc.gov.

SUPPLEMENTARY INFORMATION: On page 11381, appearing near the bottom of the second column, the heading is corrected to read as above, and in the last line of the second column and the first line of the third column, “Florida Power and Light” is corrected to read “Florida Power Corporation.”

Dated in Rockville, Maryland, this 16th day of March 2007.
For the U.S. Nuclear Regulatory Commission.
Stewart N. Bailey,
Senior Project Manager, Plant Licensing Branch II-2, Division of Operating Reactor Licensing, Office of Nuclear Reactor Regulation.

[FR Doc. E7-5249 Filed 3-21-07; 8:45 am]

BILLING CODE 7590-01-P